DEPARTMENT OF STATE

[Public Notice 8164]

Notification of the First Meetings of the U.S.-Korea FTA Environmental Affairs Council and ECA Environmental Cooperation Commission and Request for Comments on the Meeting Agendas

AGENCY: Department of State.

ACTION: Notice of the first meetings of the Environmental Affairs Council established pursuant to the U.S.-Korea Free Trade Agreement and the Environmental Cooperation Commission established under the U.S.-Korea Environmental Cooperation Agreement and request for comments on the meetings' agendas.

SUMMARY: The Department of State and the Office of the United States Trade Representative (“USTR”) are providing notice that the United States and the Republic of Korea (hereinafter “Korea”) intend to hold the first meetings of the Environmental Affairs Council (the “Council” or “EAC”) and of the Environmental Cooperation Commission (the “Commission” or “ECC”) in Washington, DC, on February 14, 2013. The United States and Korea established the Council pursuant to Chapter 20 (Environment) of the United States-Korea Free Trade Agreement (“FTA”) and the Commission pursuant to Article 3 of the United States-Korea Environmental Cooperation Agreement (“ECA”).

During the Council meeting, the United States and Korea (collectively the “Parties”) will discuss their respective implementation of and progress under the Environment Chapter (Chapter 20) of the U.S.-Korea Free Trade Agreement. During the Commission meeting, the Parties will discuss plans for ongoing and future environmental cooperation and will develop an environmental cooperation Work Program for the 2012-2015 period. All interested persons are invited to attend a public session where they will have the opportunity to ask questions and discuss implementation of Chapter 20 and U.S.-Korea environmental cooperation with Council and Commission Members. The public session will be held at 2:00 p.m., February 14, 2013, at the Department of State in room 1105 of the Harry S. Truman Building, 2201 C Street NW., Washington, DC 20520. To attend the public session, please contact Deborah Grout for pre-clearance procedures. For further information please contact Deborah Grout or Leslie Yang (contact information below).

The Department of State and USTR also invite interested agencies, organizations, and members of the public to submit written comments or suggestions regarding the meeting agendas. In preparing comments or suggestions, we encourage submitters to refer to: (1) The United States-Korea Environmental Cooperation Agreement; (2) Chapter 20 (Environment) of the United States-Korea Free Trade Agreement; and (3) the Environmental Review of the United States-Korea Free Trade Agreement. These documents are available at http://www.state.gov/e/oes/env/trade/c49687.htm.

DATES: The Council and Commission meetings will be held February 14, 2013 in Washington, DC. To be assured of timely consideration, all written comments or suggestions for the agenda are requested no later than February 6, 2013.

ADDRESSES: Written comments or suggestions should be submitted to both: (1) Deborah Grout, International Relations Officer, U.S. Department of State, Bureau of Oceans and International Environmental and Scientific Affairs, Office of Environmental Quality and Transboundary Issues by email to GroutDZ@state.gov with the subject line “U.S.-Korea EAC/ECC Meetings” or fax to 202-647-5947; and (2) Leslie Yang, Director for International Environmental Policy, Office of the United States Trade Representative by email to Leslie_Yang@ustr.eop.gov with the subject line “U.S-Korea EAC/ECC Meetings” or by fax to (202) 395-9517. If you have access to the Internet you can view and comment on this notice by going to: http://www.regulations.gov/#!home and searching on docket number DOS-2013-0002.

FOR FURTHER INFORMATION CONTACT: Deborah Grout, International Relations Officer, (202) 647-6777 or Leslie Yang, Director for International Environmental Policy, (202) 395-3167.

SUPPLEMENTARY INFORMATION: Article 20.6.1 of the United States-Korea FTA establishes an Environmental Affairs Council (the “Council”), which oversees implementation of Chapter 20 (Environment). Article 20.6.2 further provides that meetings of the Council shall include a public session, unless the Parties otherwise agree.

The United States and Korea established the U.S.-Korea Environmental Cooperation Commission when they signed the U.S.-Korea ECA, negotiated in concert with the FTA, on January 23, 2012. In Articles 3 and 4 of the ECA, the Governments state that they plan to meet to develop and update, as appropriate, a Work Program for Environmental Cooperation. The Work Program will identify and outline environmental cooperation priorities, on-going efforts, and possibilities for future cooperation.

Please refer to the Department of State Web site at http://www.state.gov/e/oes/env/trade/index.htm and the USTR Web site at www.ustr.gov for more information.

Disclaimer: This Public Notice is a request for comments and suggestions, and is not a request for applications. No granting of money is directly associated with this request for suggestions for the meeting agendas. There is no expectation of resources or funding associated with any comments or suggestions for the agendas.

Dated: January 18, 2013.
George N. Sibley,
Director, Office of Environmental Quality and Transboundary Issues, Department of State.

[FR Doc. 2013-01692 Filed 1-25-13; 8:45 am]

BILLING CODE 4710-09-P